DEPARTMENT OF LABOR

Wage and Hour Division

29 CFR Parts 531 and 553

Updating Regulations Issued Under the Fair Labor Standards Act

CFR Correction

In Title 29 of the Code of Federal Regulations, Parts 500 to 899, revised as of July 1, 2011, the following corrections are made:

§ 531.56 [CORRECTED]

On page 192, in § 531.56, in the second sentence of paragraph (c), “$20” is corrected to read “$30”.

§ 531.57 [CORRECTED]

On page 193, in § 531.57, in the last sentence, “$20” is corrected to read “$30”.

§ 553.223 [CORRECTED]

On page 268, in § 553.223, in the first sentence of paragraph (c), “firefighters” is corrected to read “employees in fire protection activities”.

[FR Doc. 2012-16051 Filed 6-28-12; 8:45 am]

BILLING CODE 1505-01-D